DEPARTMENT OF TRANSPORTATION

Federal Highway Administration

[Docket No. FHWA-2007-28156]

Notice of Request for Extension of Currently Approved Information Collection

AGENCY: Federal Highway Administration (FHWA), DOT.

ACTION: Notice and request for comments.

SUMMARY: The FHWA has forwarded the information collection request described in this notice to the Office of Management and Budget (OMB) to renew an information collection. We published a Federal Register Notice with a 60-day public comment period on this information collection on February 26, 2007. We are required to publish this notice in the Federal Register by the Paperwork Reduction Act of 1995.

DATES: Please submit comments by June 13, 2007.

ADDRESSES: You may send comments, within 30 days, to the Office of Information and Regulatory Affairs, Office of Management and Budget, 725 17th Street, NW., Washington, DC 20503, or e-mail at oira_submission@omb.eop.gov, Attention DOT Desk Officer. You are asked to comment on any aspect of this information collection, including: (1) Whether the proposed collection is necessary for the FHWA's performance; (2) the accuracy of the estimated burden; (3) ways for the FHWA to enhance the quality, usefulness, and clarity of the collected information and (4) ways that the burden could be minimized, including the use of electronic technology, without reducing the quality of the collected information. All comments should include the Docket number FHWA-2007-28156.

FOR FURTHER INFORMATION CONTACT: Chung Eng, 202-366-8043, Office of Transportation Operations, Federal Highway Administration, Department of Transportation, 400 Seventh Street, SW., Washington, DC 20590. Office hours are from 8 a.m. to 5 p.m., Monday through Friday, except Federal holidays.

SUPPLEMENTARY INFORMATION: Title: Work Zone Safety and Mobility.

OMB Control #: 2125-0600 (expiration date July 31, 2007).

Background: As amended on September 9, 2004, 23 CFR part 630, subpart J “Work Zone Safety and Mobility” requires State and local transportation agencies that receive Federal-aid highway funding to use available work zone information and data to assess and manage the work zone impacts of highway projects. While this Rule does not require the reporting or submission of work zone data, it does:

• Require agencies to use work zone data at both the project and process levels to manage and improve work zone safety and mobility;

• At the project level, require agencies to use field observations, available work zone crash data, and operational information to manage the work zone impacts of individual projects;

• At the process level, require agencies to analyze work zone crash and operational data from multiple projects to improve agency processes and procedures, and continually pursue the improvement of overall work zone safety and mobility; and

• Recommend that agencies maintain elements of the data and information resources that are necessary to support the use of work zone data for the activities above.

Most of the data needed to conduct work zone performance monitoring during project implementation as well as post-implementation assessments should be readily available from pre-existing sources. However, data collection or data storage and retrieval systems may need to be altered to take full advantage of available information resources.

Respondents: The State Departments of Transportation (or equivalent) in the 50 states, the District of Columbia, and the Commonwealth of Puerto Rico.

Frequency: Continuous.

Estimated Total Annual Burden Hours: The estimated total annual burden for all respondents is 83,200 hours. This involves responses from 52 State Departments of Transportation or equivalent with an estimated average time of 1,600 hours per respondent over the course of a year. This estimate only includes the burden on the respondents to provide information that is not usually and customarily collected.

Authority: The Paperwork Reduction Act of 1995; 44 U.S.C. Chapter 35, as amended; and 49 CFR 1.48.

Issued on: May 8, 2007.
James R. Kabel,
Chief, Management Programs and Analysis Division.

[FR Doc. E7-9157 Filed 5-11-07; 8:45 am]

BILLING CODE 4910-22-P